FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington, DC 20551-0001, not later than December 19, 2019.

A. Federal Reserve Bank of Dallas (Robert L. Triplett III, Senior Vice President) 2200 North Pearl Street, Dallas, Texas 75201-2272:

1. The Jack E. and Willie Rae Tregellas Revocable Trust, Perryton, Texas, Tim Tregellas, Azle, Texas, and William Mac Tregellas, Perryton, Texas, as co-trustees; Debra Tregellas, Azle, Texas; and the William and Rita Tregellas Revocable Trust dated February 15, 1997, Perryton, Texas, William Mac Tregellas and Rita Tregellas, Perryton, Texas, as co-trustees; individually and as members of a group acting in concert with the Tregellas Family Control Group, to retain voting shares of Perryton Bancshares, Inc., and thereby indirectly retain voting shares of The Perryton National Bank, both of Perryton, Texas.

Additionally, The Jack E. Tregellas Family Trust—Perryton Bancshares Trust S, Perryton, Texas, Tim Tregellas, William Mac Tregellas, and Willie Rae Tregellas, Perryton, Texas, as co-trustees, individually and as members acting in concert with the Tregellas Family Control Group, to acquire voting shares of Perryton Bancshares, Inc., and The Perryton National Bank.

Board of Governors of the Federal Reserve System, November 29, 2019.
Yao-Chin Chao,
Assistant Secretary of the Board.

[FR Doc. 2019-26217 Filed 12-3-19; 8:45 am]

BILLING CODE 6210-01-P